FEDERAL COMMUNICATIONS COMMISSION

47 CFR Part 51

[CC Docket No. 98-147; FCC 00-297]

Deployment of Wireline Services Offering Advanced Telecommunications Capability

AGENCY: Federal Communications Commission.

ACTION: Final rule; announcement of effective date.

SUMMARY: On August 10, 2000, the Federal Communications Commission released an Order on Reconsideration strengthening the collocation requirements placed upon incumbent local exchange carriers pursuant to section 251(c)(6) of the Communications Act of 1934, as amended. This notice announces an effective date of October 10, 2000 for rules adopted in that Order that contained modified or new information collection requirements.

DATES: Sections 51.321(f), 51.323(b), and 51.323(l)(1) published at 65 FR 54433 (September 8, 2000) are effective on October 10, 2000.

FOR FURTHER INFORMATION CONTACT: William Kehoe, Special Counsel, Common Carrier Bureau, Policy and Program Planning Division, 202-418-1580. Further information also may be obtained by calling the Common Carrier Bureau's TTY number: 202-418-0484.

SUPPLEMENTARY INFORMATION: On September 1, 2000, the Office of Management and Budget approved the information collections adopted in the Order on Reconsideration pursuant to OMB Control No. 3060-0848. Accordingly, the modified or new information collection requirements in sections 51.321(f), 51.323(b), and section 51.323(l)(1) will take effect on October 10, 2000, the same date as the other rules adopted in the Order on Reconsideration.

List of Subjects in 47 CFR Part 51

Communications, Common carriers, Telecommunications, Collocation.

Federal Communications Commission.
Magalie Roman Salas,
Secretary.

[FR Doc. 00-24327 Filed 9-21-00; 8:45 am]

BILLING CODE 6712-01-P